DEPARTMENT OF AGRICULTURE

Forest Service

Trinity County Resource Advisory Committee

AGENCY: Forest Service, USDA.

ACTION: Notice of meeting.

SUMMARY: The Trinity County Resource Advisory Committee (RAC) will meet on September 9, 2003 in Mad River, California. The purpose of the meeting is take a field trip to view the Mad Ridge Fuel Break, a Title II project under Pub. L. 106-393, H.R. 2389, the Secure Rural Schools and Community Self-Determination Act of 2000, also called the “Payments to States” Act.

DATES: The meeting will be held September 9, 2003 from 10 a.m. to 5 p.m.

ADDRESSES: The meeting will be held at the Mad River Ranger Station, Highway 36, Mad River, California.

FOR FURTHER INFORMATION CONTACT: Ann Garland, Designated Federal Official, USDA, Six Rivers National Forest, P.O. Box 68, Willow Creek, CA 95573. Phone: (530) 629-2118. e-mail: agarland@fs.fed.us.

SUPPLEMENTARY INFORMATION: The committee will take a field trip to look at the layout of the Mad Ridge Fuelbreak project, which is being funded through Title II. The meeting is open to the public. Public input opportunity will be provided and individuals will have the opportunity to address the committee at that time.

Dated: August 6, 2003.
S.E. ‘Lou’ Woltering,
Forest Supervisor.

[FR Doc. 03-20479 Filed 8-11-03; 8:45 am]

BILLING CODE 3410-11-M